DEPARTMENT OF THE INTERIOR

Bureau of Land Management

[LLNM920000 15X L13100000.FI0000]

Notice of Proposed Reinstatement of Terminated Oil and Gas Lease OKNM 118150, Oklahoma

AGENCY: Bureau of Land Management, Interior.

ACTION: Notice.

SUMMARY: Per the Mineral Leasing Act of 1920, Chesapeake Exploration LLC timely filed a petition for reinstatement of competitive oil and gas lease OKNM 118150, Major County, Oklahoma. The lessee paid the required rentals accruing from the date of termination. No leases were issued that affect these lands.

FOR FURTHER INFORMATION CONTACT: Gloria S. Baca, Supervisory Land Law Examiner, Branch of Adjudication, Bureau of Land Management New Mexico State Office, 301 Dinosaur Trail, Santa Fe, NM 87508, 505-954-2141, gbaca@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The lessee agrees to new lease terms for rentals and royalties of $10 per acre, or fraction thereof, per year, and 16⅔ percent, respectively. The lessee agrees to additional or amended stipulations. The lessee paid the $500 administration fee for the reinstatement of the lease and $159 cost for publishing this Notice.

The lessee met the requirements for reinstatement of the lease per Sec. 31(d) and (e) of the Mineral Leasing Act of 1920. The BLM is proposing to reinstate the lease, effective the date of termination subject to the:

• Original terms and conditions of the lease;

• Additional and amended stipulations;

• Increased rental of $10 per acre;

• Increased royalty of 16⅔ percent; and

• $159 cost of publishing this Notice.

Authority: 43 CFR 3108.2-3.

Gloria S. Baca,
Supervisory Land Law Examiner, Branch of Adjudication.

[FR Doc. 2016-06630 Filed 3-22-16; 8:45 am]

BILLING CODE 4310-FB-P